DEPARTMENT OF JUSTICE

National Institute of Justice

[OMB Number XXXX—New]

Agency Information Collection Activities; Proposed eCollection eComments Requested; New Collection; National Survey on Correctional Contraband (NCSS)

AGENCY: Office of Justice Programs, Department of Justice.

ACTION: 60-Day notice.

SUMMARY: The Department of Justice, National Institute of Justice, is submitting the following information collection request to the Office of Management and Budget (OMB) for review and approval in accordance with the Paperwork Reduction Act of 1995.

DATES: The Department of Justice encourages public comment and will accept input until February 2, 2018.

FOR FURTHER INFORMATION CONTACT: If you have additional comments especially on the estimated public burden or associated response time, suggestions, or need a copy of the proposed information collection instrument with instructions or additional information, please contact Jack: Harne, Physical Scientist, National Institute of Justice, 810 Seventh Street NW., Washington, DC 20531 (phone 202-598-9412). Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the National Institute of Justice, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New collection.

2. The Title of the Form/Collection: National Survey on Correctional Contraband (NSCC).

3. The agency form number, if any, and the applicable component of the Department sponsoring the collection: “There is no agency form number for this collection.” The applicable component within the Department of Justice is the Office of Justice Programs, National Institute of Justice.

4. Affected public who will be asked or required to respond, as well as a brief abstract: The current project aims to develop national statistics on correctional contraband and interdiction modalities to fill these significant knowledge gaps in the field. NIJ, in collaboration with the Urban Institute, will collect the data from the department of corrections in all 50 states and a nationally representative sample of jails (n=408).

In correctional facilities, contraband items such as drugs, alcohol, cell phones, tobacco products, and makeshift weapons can be used by inmates to spread violence, engage in criminal activity, create underground economies, and perpetuate existing addictions. Contraband in correctional facilities is therefore a cause of serious concern for the safety and security of inmates and correctional staff. However, little is known about what types of contraband interdiction modalities are exercised across jurisdictions and have proven successful, let alone how much and what type of contraband is found in correctional facilities in the U.S. and how it is brought in.

5. An estimate of the total number of respondents and the amount of time estimated for an average respondent to respond: The estimated range of burden for respondents completing the survey is 60 minutes. The department of corrections in all 50 states, responding for 1,821 prison facilities, and a nationally representative sample of jails (n=408) will be recruited to complete the survey.

6. An estimate of the total public burden (in hours) associated with the collection: The estimated public burden associated with this collection is 2,221 hours. It is estimated that 1,821 state participants and 408 jail participants will take one hour to complete the survey.

If additional information is required contact: Melody Braswell, Department Clearance Officer, United States Department of Justice, Justice Management Division, Policy and Planning Staff, Two Constitution Square, 145 N Street NE., 3E.405A, Washington, DC 20530.

Dated: November 29, 2017.
Melody Braswell,
Department Clearance Officer for PRA, U.S. Department of Justice.

[FR Doc. 2017-26074 Filed 12-1-17; 8:45 am]

BILLING CODE 4410-18-P